DEPARTMENT OF LABOR

Office of the Secretary

Submission for OMB Review: Comment Request

September 13, 2005.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Employment Standards Administration (ESA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of currently approved collection.

Title: Application for Authority for an Institution of Higher Education to Employ Its Full-Time Students at Subminimum Wages Under Regulation 29 CFR Part 519.

OMB Number: 1215-0080.

Form Number: WH-201.

Frequency: Annually.

Type of Response: Reporting and recordkeeping.

Affected Public: Not-for-profit institutions and business or other for-profit.

Number of Respondents: 15.

Annual Reponses: 15.

Average Response Time: 30 minutes for initial applications and 15 minutes for renewals.

Total Annual Burden Hours: 5.

Total Annualized capital/startup costs: $0.

Total Annual Costs (operating/maintaining systems or purchasing services): $6.00.

Description: Section 14(b) of the Fair Labor Standards Act, in part, authorizes the employment of full-time students in higher education at subminimum wages under certain conditions. The WH-201 application form provides the information necessary to ascertain whether the requirements of section 14(b) have been met.

Agency: Employment Standards Administration.

Type of Review: Extension of currently approved collection.

Title: Certificate of Medical Necessity.

OMB Number: 1215-0113.

Form Number: CM-893.

Frequency: On occasion.

Type of Response: Reporting.

Affected Public: Business or other for-profit; Not-for-profit institutions; and Individuals or households.

Number of Respondents: 4,000.

Annual Reponses: 4,000.

Average Response Time: 40 minutes for responses that involve a pulmonary function study; 20 minutes for responses that involve an arterial blood gas study; and 30 minutes for responses that involve submission of existing treatment records (Note: estimates include both reporting and related recordkeeping burden).

Total Annual Burden Hours: 1,567.

Total Annualized capital/startup costs: $0.

Total Annual Costs (operating/maintaining systems or purchasing services): $0.

Description: The enabling regulations of the Black Lung Benefits Act, at 20 CFR 725.701, establish miner eligibility for medical services and supplies for the length of time required by the miner's condition and disability. 20 CFR 725.706 stipulates there must be prior approval before ordering an apparatus where the purchase price exceeds $300.00. 20 CFR 725.707 provides for the ongoing supervision of the miner's medical care, including the necessity, character and sufficiency of care to be furnished; gives the authority to request medical reports and indicates the right to refuse payment for failing to submit any report required. Because of the above legislation and regulations, it was necessary to devise a form to collect the required information. The form is the CM-893, Certificate of Medical Necessity.

Ira L. Mills,
Departmental Clearance Officer.

[FR Doc. 05-18820 Filed 9-20-05; 8:45 am]

BILLING CODE 4510-27-P